COMMISSION ON CIVIL RIGHTS

Sunshine Act Meeting Notice

AGENCY: United States Commission on Civil Rights.

ACTION: Notice of Commission public business meeting.

DATES: Friday, September 20, 2024, 10:00 a.m. EST.

ADDRESSES: Meeting to take place virtually and is open to the public via livestream on the Commission's YouTube page: https://www.youtube.com/user/USCCR/videos.

FOR FURTHER INFORMATION CONTACT: Joe Kim: 202-376-8371; publicaffairs@usccr.gov.

SUPPLEMENTARY INFORMATION: In accordance with the Government in Sunshine Act (5 U.S.C. 552b), the Commission on Civil Rights is holding a meeting to discuss the Commission's business for the month. This business meeting is open to the public. Computer assisted real-time transcription (CART) will be provided. The web link to access CART (in English) on Friday, September 20, 2024, is https://www.streamtext.net/player?event=USCCR. Please note that CART is text-only translation that occurs in real time during the meeting and is not an exact transcript.

Meeting Agenda

I. Approval of Agenda

II. Business Meeting

A. Presentation by Virginia Advisory Committee Chair on Released Reports and Memorandum on Police Oversight and Accountability

B. Presentation by Maryland Advisory Committee Chair on Released Reports and Memorandum on Water Affordability in Maryland

C. Management and Operations

• Staff Director's Report

III. Adjourn Meeting

Dated: September 12, 2024.
Zakee Martin,
USCCR Special Assistant to the Staff Director.

[FR Doc. 2024-21247 Filed 9-13-24; 4:15 pm]

BILLING CODE 6335-01-P